ENVIRONMENTAL PROTECTION AGENCY

[OPPTS-00672A; FRL-6749-8]

National Action Plan for Alkyl-lead; Notice of Availability and Solicitation of Public Comment; Reopening of Comment Period

AGENCY: Environmental Protection Agency (EPA).

ACTION: Notice; Reopening of comment period.

SUMMARY: The US EPA has extended the time period in which it will accept public comments on the National Action Plan for Alkyl-lead. EPA has developed a draft National Action Plan to promote further voluntary reductions of use and exposure to alkyl-lead compounds. Alkyl-lead is used as a fuel additive to reduce “knock” in combustion engines and also to help lubricate internal engine components and protect intake and exhaust valves against recession. This plan was developed pursuant to the Agency's Multimedia Strategy for Priority Persistent, Bioaccumulative, and Toxic (PBT) Pollutants. This Notice announces the expansion of the availability of the Alkyl-lead National Action Plan for public review and comment.

DATES: Comments, identified by docket control number OPPTS-00672A, must be received on or before December 26, 2000.

ADDRESSES: Comments may be submitted by mail, electronically, or in person. Please follow the detailed instructions for each method as provided in Unit III. of the SUPPLEMENTARY INFORMATION. To ensure proper receipt by EPA, it is imperative that you identify docket control number OPPTS-00672A in the subject line on the first page of your response.

FOR FURHTER INFORMATION CONTACT: For general information contact: Barbara Cunningham, Director, Office of Program Management and Evaluation, Office of Pollution Prevention and Toxics (7401), Environmental Protection Agency, 1200 Pennsylvania Ave., NW., Washington, DC 20460; telephone number: (202) 554-1404; e-mail address: TSCA-Hotline@epa.gov.

For technical information contact: Paul Matthai, Pollution Prevention Division (7409), Office of Pollution Prevention and Toxics, Environmental Protection Agency, 1200 Pennsylvania Ave., NW., Washington, DC 20460; telephone number: (202) 260-3385; e-mail address: matthai.paul@epa.gov

SUPPLEMENTARY INFORMATION:

I. Does this Action Apply to Me?

This action is directed to the public in general. This action may however, be of interest to persons who make, distribute, or use racing and aviation gasoline. Since other entities may also be interested, the Agency has not attempted to describe all the specific entities that may be affected by this action. If you have any questions regarding the applicability of this action to a particular entity, consult the technical person listed under FOR FURTHER INFORMATION CONTACT.

II. How Can I Get Additional Information, Including Copies of this Document or Other Related Documents?

1. Electronically. You may obtain electronic copies of this document, and certain other related documents that might be available electronically, from the EPA Internet Home Page at http://www.epa.gov/pbt. To access this document, on the PBT Home Page select “Strategy and Action Plans.”

2. In person. The Agency has established an official record for this action under docket control number 0PPTS-00672A. The official record consists of the documents specifically referenced in this action, any other information related to this action, including any information claimed as confidential business information (CBI). This official record includes the documents that are physically located in the docket as well as the documents that are referenced in those documents. The public version of the official record does not include any information claimed as CBI. The public version of the official record, which includes printed, paper versions of any electronic comments submitted during an applicable comment period, is available for inspection in the TSCA Nonconfidential Information Center, North East Mall Rm. B-607, Waterside Mall, 1200 Pennsylvania Ave., NW., Washington, DC. The Center is open from noon to 4 p.m., Monday through Friday, excluding legal holidays. The telephone number for the Center is (202) 260-7099.

III. How and to Whom Do I Submit Comments?

As described in Unit I.C. of the document published in the Federal Register of August 25, 2000 (65 FR 51823) (FRL-6599-6) you may submit your comments through the mail, in person, or electronically. Please follow the instructions that are provided in the August 25, 2000 document. Do not submit any information electronically that you consider to be CBI. To ensure proper receipt by EPA, be sure to identify docket control number OPPTS-00672A in the subject line on the first page of your response.

IV. What Action is EPA Taking?

EPA is extending the comment period for alkyl-lead an additional 60 days. On November 16, 1998, EPA released its Agency-wide Multimedia Strategy for Priority Persistent, Bioaccumulative, and Toxic (PBT) Pollutants (PBT Strategy). The goal of the PBT Strategy is to identify and reduce risks to human health and the environment from current and future exposure to priority PBT pollutants. This document serves as the Draft National Action Plan for Alkyl-Lead, one of the 12 Level 1 priority PBT pollutants identified for the initial focus of action in the PBT Strategy.

EPA is requesting public comment on a strategy to address the remaining risks to human health and the environment from exposure to alkyl-lead: (1) Contribute to international efforts to reduce the use of alkyl-lead world-wide; (2) pursue voluntary initiatives to reduce the use of alkyl-lead in aircraft gasoline, race cars, and non-road vehicles such as farm machinery, marine vessels, construction equipment, and recreational vehicles; and (3) collect information as possible, given resource constraints, related to production, use, emissions, and continued exposure scenarios.

List of Subjects

Environmental protection.

Dated: October 4, 2000.
Susan H. Wayland,
Acting Assistant Administrator, Office of Prevention, Pesticides and Toxic Substances.

[FR Doc. 00-27406 Filed 10-24-00; 8:45 a.m.]

BILLING CODE 6560-50-S